FEDERAL DEPOSIT INSURANCE CORPORATION

[OMB No. 3064-0026; -0070; -0079; -0188]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0026, -0070, -0079, and -0188).

DATES: Comments must be submitted on or before October 21, 2022.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION, CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Transfer Agent Registration and Amendment Form.

OMB Number: 3064-0026.

Form Number: TA-1.

Affected Public: Private Sector, insured state nonmember banks and state savings associations.

Burden Estimate:

Summary of Estimated Annual Burden
[OMB No. 3064-0026]
Information collection description (obligation to respond) | Type of burden (frequency of response) | Number of respondents | Number of responses per respondent | Time per response (HH:MM) | Annual burden (hours)
1. Transfer Agent Registration 12 CFR 341.3 (Mandatory) | Reporting (Occasional) | 1 | 1 | 01:15 | 1
2. Transfer Agent Amendment 12 CFR 341.4 (Mandatory) | Reporting (Occasional) | 1 | 1 | 00:10 | 0
3. Transfer Agent Deregistration 12 CFR 341.5 (Mandatory) | Reporting (Occasional) | 1 | 1 | 00:25 | 0
Total Annual Burden (Hours) |  |  |  |  | 1

General Description of Collection: Section 17A(c) of the Security Exchange Act of 1934 (the Act) requires all transfer agents for securities registered under section 12 of the Act or, if the security would be required to be registered except for the exemption from registration provided by Section 12(g)(2)(B) or Section 12(g)(2)(G), to “fil[e] with the appropriate regulatory agency . . . an application for registration in such form and containing such information and documents . . . as such appropriate regulatory agency may prescribe as necessary or appropriate in furtherance of the purposes of this section.” In general, an entity performing transfer agent functions for a security is required to register with its appropriate regulatory agency (ARA) if the security is registered on a national securities exchange or if the issuer of the security has total assets exceeding $10 million and a class of equity security held of record by 2,000 persons or, for an issuer that is not a bank, BHC, or SLHC, by 500 persons who are not accredited investors. The Federal Reserve Board of Governors' (Board) Regulation H (12 CFR 208.31(a)) and Regulation Y (12 CFR 225.4(d)), the OCC's 12 CFR 9.20, and the FDIC's 12 CFR part 341 implement these provisions of the Act. To accomplish the registration of transfer agents, Form TA- 1 was developed in 1975 as an interagency effort by the Securities and Exchange Commission (SEC) and the agencies. The agencies primarily use the data collected on Form TA-1 to determine whether an application for registration should be approved, denied, accelerated or postponed, and they use the data in connection with their supervisory responsibilities. FDIC is revising this information collection to include the burden associated with the reporting requirement related to the transfer agent deregistration form (Form TA-W) currently cleared under OMB Control Number 3064-0027. The intention is to create a combined ICR that covers both the transfer agent registration and amendment form, and the transfer agent deregistration form. This combined ICR will retain the Office of Management and Budget (OMB) number OMB No. 3064-0026. The FDIC plans to discontinue OMB No. 3064-0027 once the combined OMB No. 3064-0026 is approved. This action will streamline the ICR process and contribute to enhanced operational efficiency of the FDIC.

There is no change in the method or substance of the collection. The overall reduction in burden hours is the result of economic fluctuation. In particular, the decline in the estimated overall annual time burden from 2 hours in 2020 and 2021 to 1 hour in 2022.

2. Title: Application for a Bank to Establish a Branch or Move its Main Office or Branch.

OMB Number: 3064-0070.

Form Number: None.

Affected Public: Insured state nonmember banks and state savings associations.

Burden Estimate:

Summary of Estimated Annual Burden
[OMB No. 3064-0070]
Information collection description | Type of burden (obligation to respond) | Frequency of response | Number of respondents | Number of responses per respondent | Hours per response | Annual burden (hours)
Application for consent to reduce or retire capital | Reporting (Mandatory) | On Occasion | 436 | 1.461 | 5 | 3,185
Estimated Total Annual Burden |  |  |  |  |  | 3,185

General Description of Collection: Section 18(d) of the Federal Deposit Insurance Act (12 U.S.C. 1828(d) (FDI Act) provides that no FDIC insured state nonmember bank or state savings association shall establish and operate any new domestic branch or move its main office or any such branch from one location to another without the prior written consent of the FDIC. In granting or withholding consent to the applicant, FDIC considers: (a) The financial history and condition of the depository institution; (b) the adequacy of its capital structure; (c) its future earnings prospects; (d) the general character and fitness of its management; (e) the risk presented by the depository institution to the Deposit Insurance Fund; (f) the convenience and needs of the community to be served; and (g) whether its corporate powers are consistent with the purposes of the FDI Act. FDIC regulations found at 12 CFR 303, subpart C, specify the steps that respondents must take to comply with the statutory mandate.

There is no change in the method or substance of the collection. The overall reduction in burden hours is the result of economic fluctuation. In particular, the number of respondents has decreased while the hours per response and frequency of responses have remained the same.

3. Title: Application for Consent to Reduce or Retire Capital.

OMB Number: 3064-0079.

Form Number: None.

Affected Public: Insured state nonmember banks and state savings associations.

Burden Estimate:

Summary of Estimated Annual Burden
[OMB No. 3064-0079]
Information collection (IC) description | Type of burden (obligation to respond) | Estimated number of respondents | Number of responses per respondent | Estimated time per response (hours) | Total estimated annual burden (hours)
Application for consent to reduce or retire capital | Reporting (Required to Obtain or Retain a Benefit) | 74 | 1.36 | 11 | 1,107
Estimated Total Annual Burden |  |  |  |  | 1,107

General Description of Collection: Insured state nonmember banks proposing to change their capital structure must submit an application containing information about the proposed change to obtain FDIC's consent to reduce or retire capital.

There is no change in the method or substance of the collection. The overall reduction in burden hours is the result of economic fluctuation. In particular, the number of respondents has decreased while the hours per response and frequency of responses have remained the same.

4. Title: Appraisals for Higher-Priced Mortgage Loans.

OMB Number: 3064-0188.

Form Number: None.

Affected Public: Insured state nonmember banks and state savings associations.

Burden Estimate:

Estimated Number of Respondents and Responses per Respondent
Item | IC description (section) | Type of burden (frequency of response) | Obligation to respond | Estimated annual number of respondents | Estimated annual number of responses per respondent | Estimated time per response | Estimated annual burden hours
1 | Disclose to an applicant for an HPML that the institution may obtain an appraisal for the property, 12 CFR part 1026.35(c)(5)(i) | Third-party Disclosure (On Occasion) | Mandatory | 3,018 | 14.54 | 0.017 | 746
2 | Provide a copy of written appraisal to the consumer, 12 CFR part 1026.35(c)(6)(i) | Third-party Disclosure (On Occasion) | Mandatory | 3,018 | 15.34 | 0.14 | 6,481

Estimated Number of Respondents and Responses per Respondent—Continued
Item | IC description (section) | Type of burden (frequency of response) | Obligation to respond | Estimated annual number of respondents | Estimated annual number of responses per respondent | Estimated time per response | Estimated annual burden hours
3 | Provide documentation of the property value to the consumer in lieu of an appraisal, 12 CFR Part 1026.35(c)(2)(viii)(B) | Third-party Disclosure (On Occasion) | Optional | 3,018 | 0.74 | 0.083 | 185
| Total Estimated Annual Burden Hours: |  |  |  |  |  | 7,412

General Description of Collection: Section 1471 of the Dodd-Frank Act established a new Truth in Lending (TILA) section 129H, which contains appraisal requirements applicable to higher-risk mortgages and prohibits a creditor from extending credit in the form of a higher-risk mortgage loan to any consumer without meeting those requirements. A higher-risk mortgage is defined as a residential mortgage loan secured by a principal dwelling with an annual percentage rate (APR) that exceeds the average prime offer rate (APOR) for a comparable transaction as of the date the interest rate is set by certain enumerated percentage point spreads. The rule requires that, within three days of application, a creditor provide a disclosure that informs consumers regarding the purpose of the appraisal, that the creditor will provide the consumer a copy of any appraisal, and that the consumer may choose to have a separate appraisal conducted at the expense of the consumer. If a loan meets the definition of a higher-risk mortgage loan, then the creditor would be required to obtain a written appraisal prepared by a certified or licensed appraiser who conducts a physical visit of the interior of the property that will secure the transaction, and send a copy of the written appraisal to the consumer. To qualify for the safe harbor provided under the rule, a creditor is required to review the written appraisal as specified in the text of the rule and appendix A. If a loan is classified as a higher-risk mortgage loan that will finance the acquisition of the property to be mortgaged, and the property was acquired within the previous 180 days by the seller at a price that was lower than the current sale price, then the creditor is required to obtain an additional appraisal. A creditor is required to provide the consumer a copy of the appraisal reports performed in connection with the loan, without charge, at least days prior to consummation of the loan.

FDIC is revising this information collection to fully account for the scope of PRA burden delineated in Part 1036.35(c). As a result, two new items have been added to the burden table; two items previously listed separately have been combined into a single item; and one item, associated with Part 1026.35(c)(4)(iv), was deemed to not impose any additional recordkeeping, disclosure or reporting requirements, has been removed from the table. As a result of these revisions, the estimated annual burden has increased from 4,044 hours to 7,412 hours. The following is a summary of the revisions:

• The 2019 ICR did not include a line item associated with the disclosure requirement in Part 1026.35(c)(5)(i), which requires institutions to disclose the following statement, in writing, to a consumer who applies for a higher-priced mortgage loan (HPML): “We may order an appraisal to determine the property's value and charge you for this appraisal. We will give you a copy of any appraisal, even if your loan does not close. You can pay for an additional appraisal for your own use at your own cost.” FDIC has added a line item associated with this requirement to the burden table for the 2022 renewal.

• The 2019 ICR did not include a line item associated with Part 1026.35(c)(2)(viii)(B), which exempts institutions from the appraisal requirements for HPMLs secured by a manufactured home and not land if the institution obtains, and provides to the consumer no later than three business days prior to the consummation of the transaction, either: (1) For a new manufactured home, the manufacturer's invoice for the manufactured home securing the transaction, provided that the date of manufacture is no earlier than 18 months prior to the creditor's receipt of the consumer's application for credit; (2) A cost estimate of the value of the manufactured home securing the transaction obtained from an independent cost service provider, or; (3) A valuation of the manufactured home performed by a person who has no direct or indirect interest, financial or otherwise, in the property or transaction for which the valuation is performed and has training in valuing manufactured homes. FDIC has added a line item associated with this disclosure requirement to the burden table for the 2022 renewal.

• The 2019 ICR included two separate line items related to the disclosure requirement in Part 1026.35(c)(6)(i) for an institution to provide a copy to the applicant of any appraisal obtained pursuant to Parts 1026.35(c)(3) and 1026.35(c)(4). The 2019 ICR included one line item for the disclosure requirements for appraisals obtained pursuant to Part 1026.35(c)(3) and another for appraisals obtained pursuant to Part 1026.35(c)(4). FDIC has combined these two line items into a single line item for the 2022 renewal.

• The 2019 ICR included a line item associated with the requirement in Part 1026.35(c)(4)(iv) for one of the two appraisals for a property for which two appraisals are required under Part 1026.(c)4(i) to include an analysis of: (1) The difference between the price at which the seller acquired the property and the price that the consumer is obligated to pay to acquire the property, as specified in the consumer's agreement to acquire the property from the seller; (2) Changes in market conditions between the date the seller acquired the property and the date of the consumer's agreement to acquire the property; and (3) Any improvements made to the property between the date the seller acquired the property and the date of the consumer's agreement to acquire the property. FDIC has determined that Part 1026.35(c)(4)(iv) does not impose any additional recordkeeping, disclosure, or reporting requirements on members of the public and has removed the line item associated with this requirement from the burden table for the 2022 renewal.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, August 16, 2022.
James P. Sheesley,
Assistant Executive Secretary.

[FR Doc. 2022-17948 Filed 8-19-22; 8:45 am]

BILLING CODE 6714-01-P